DEPARTMENT OF ENERGY

Federal Energy Regulatory Commission

[Docket No. EC00-127-000, et al.]

Indianapolis Power & Light Company, et al. Electric Rate and Corporate Regulation Filings

August 23, 2000.

Take notice that the following filings have been made with the Commission:

1. Indianapolis Power & Light Company

[Docket No. EC00-127-000]

Take notice that on August 18, 2000, Indianapolis Power & Light Company (IPL), tendered for filing an application under Section 203 of the Federal Power Act for authorization for the sale by IPL of the transmission facilities at its Perry K Steam Plant in Indianapolis, Indiana to Citizens Gas & Coke Utility (Citizens). The Perry K Steam production facility includes two generators that are capable of producing approximately 20 MW.

Comment date: September 8, 2000, in accordance with Standard Paragraph E at the end of this notice.

2. Northeast Utilities Service Company and Select Energy, Inc. v. ISO New England Inc.

[Docket No. EL00-102-000]

Take notice that on August 21, 2000, Northeast Utilities Service Company and Select Energy tendered for filing pursuant to Sections 206 and 306 of the Federal Power Act a complaint against ISO New England Inc., regarding its mitigation of the monthly Installed Capability markets for the January 2000 through July 2000 period.

Comment date: September 11, 2000, in accordance with Standard Paragraph E at the end of this notice. Answers to the complaint shall also be due on or before September 11, 2000.

3. COSI Puna, Inc.

[Docket No. EG00-198-000]

Take notice that on August 17, 2000, COSI Puna, Inc. (the Applicant), with its principal place of business at 111 Market Place, Suite 200, Baltimore, Maryland 21202, tendered for filing with the Federal Energy Regulatory Commission an amendment to its application for determination of exempt wholesale generator status pursuant to Part 365 of the Commission's Regulations that was originally filed on June 29, 2000 in the above-referenced docket.

Comment date: September 13, 2000, in accordance with Standard Paragraph E at the end of this notice. The Commission will limit its consideration of comments to those that concern the adequacy or accuracy of the amended application.

4. Aques Investments Corporation II

[Docket No. EG00-199-000]

Take notice that on August 17, 2000, Aques Investments Corporation II (the Applicant), with its principal place of business at 111 Market Place, Suite 200, Baltimore, Maryland 21202, tendered for filing with the Federal Energy Regulatory Commission an amendment to its application for determination of exempt wholesale generator status pursuant to Part 365 of the Commission's Regulations that was originally filed on June 29, 2000 in the above-referenced docket.

Comment date: September 13, 2000, in accordance with Standard Paragraph E at the end of this notice. The Commission will limit its consideration of comments to those that concern the adequacy or accuracy of the amended application.

5. CD Soda III, Inc.

[Docket No. EG00-200-000]

Take notice that on August 17, 2000, CD Soda III, Inc. (the Applicant), with its principal place of business at 111 Market Place, Suite 200, Baltimore, Maryland 21202, tendered for filing with the Federal Energy Regulatory Commission an amendment to its application for determination of exempt wholesale generator status pursuant to Part 365 of the Commission's Regulations that was originally filed on June 29, 2000 in the above-referenced docket.

Comment date: September 13, 2000, in accordance with Standard Paragraph E at the end of this notice. The Commission will limit its consideration of comments to those that concern the adequacy or accuracy of the amended application.

6. COSI Sunnyside, Inc.

[Docket No. EG00-206-000]

Take notice that on August 17, 2000, COSI Sunnyside, Inc. (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced docket.

Comment date: September 13, 2000, in accordance with Standard Paragraph E at the end of this notice. The Commission will limit its consideration of comments to those that concern the adequacy or accuracy of the amended application.

7. COSI Central Wayne, Inc.

[Docket No. EG00-208-000]

Take notice that on August 17, 2000, COSI Central Wayne, Inc. (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced docket.

Comment date: September 13, 2000, in accordance with Standard Paragraph E at the end of this notice. The Commission will limit its consideration of comments to those that concern the adequacy or accuracy of the amended application.

8. CD Panther Partners, L.P.

[Docket No. EG00-213-000]

Take notice that on August 17, 2000, CD Panther Partners, L.P. (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced docket.

Comment date: September 13, 2000, in accordance with Standard Paragraph E at the end of this notice. The Commission will limit its consideration of comments to those that concern the adequacy or accuracy of the amended application.

9. Constellation Operating Services

[Docket No. EG00-214-000]

Take notice that on August 17, 2000, Constellation Operating Services (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced docket.

Comment date: September 13, 2000, in accordance with Standard Paragraph E at the end of this notice. The Commission will limit its consideration of comments to those that concern the adequacy or accuracy of the amended application.

10. CE Colver Limited Partnership

[Docket No. EG00-216-000]

Take notice that on August 17, 2000, CE Colver Limited Partnership (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced Docket.

Comment date: September 13, 2000, in accordance with Standard Paragraph E at the end of this notice. The Commission will limit its consideration of comments to those that concern the adequacy or accuracy of the amended application.

11. CE Colver I, Inc.

[Docket No. EG00-217-000]

Take notice that on August 17, 2000, CE Colver I, Inc. (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced docket.

Comment date: September 13, 2000, in accordance with Standard Paragraph E at the end of this notice. The Commission will limit its consideration of comments to those that concern the adequacy or accuracy of the amended application.

12. COSI A/C Power, Inc.

[Docket No. EG00-219-000]

Take notice that on August 17, 2000, COSI A/C Power, Inc. (the Applicant), with its principal place of business at 111 Market Place, Suite 200, Baltimore, Maryland 21202, tendered for filing with the Federal Energy Regulatory Commission an amendment to its application for determination of exempt wholesale generator status pursuant to Part 365 of the Commission's Regulations that was originally filed on June 30, 2000 in the above-referenced docket.

Comment date: September 13, 2000, in accordance with Standard Paragraph E at the end of this notice. The Commission will limit its consideration of comments to those that concern the adequacy or accuracy of the amended application.

13. PPL Maine, LLC

[Docket No. ER99-1940-001]

Take notice that on August 17, 2000, PPL Maine, LLC tendered for filing notification of change in status, pursuant to the Order of the Federal Energy Regulatory Commission in Northeast Utilities Service Company, 87 FERC ¶ 61,063 (1999).

Copies of this filing have been served upon all persons listed on the official service list complied by the Secretary in this Docket.

Comment date: September 7, 2000, in accordance with Standard Paragraph E at the end of this notice.

14. AEE 2 LLC, AES Londonderry LLC, AES Huntington Beach LLC, AES Alamitos LLC, AES Redondo Beach LLC, AES Placerita Inc., AES NY LLC, AES Power Inc., Central Illinois Light Co., Commonwealth Chesapeake Co. LLC, Northern/AES Energy LLC, QST Energy Trading Inc., New Energy Ventures LLC, NEV East LLC, NEV California LLC, NEV Midwest LLC, New Energy Partners, LLC

[Docket Nos. ER99-2284-001, ER00-1147-001, ER98-2184-005, ER98-2185-005, ER98-2186-005, ER00-33-002, ER99-1773-001, ER94-890-021, ER98-2440-001, ER99-415-003, ER98-445-009, ER96-553-018, ER97-4636-010, ER97-4652-010, ER97-4653-010, ER97-4654-010, ER99-1812-006]

Take notice that on August 18, 2000, AES Corporation (AES), on behalf of its affiliates, tendered for filing notification of a change in status to reflect certain departures from the facts the Commission relied upon in granting market-based rate authority. AES informed the Commission of its planned acquisition of IPALCO Enterprises, Inc., the parent of Indianapolis Power & Light Company.

Comment date: September 8, 2000, in accordance with Standard Paragraph E at the end of this notice.

15. PPL Montana, LLC; PPL Colstrip I, LLC; PPL Colstrip II, LLC

[Docket No. ER99-3491-001]

Take notice that on August 17, 2000, PPL Montana, LLC, PPL Colstrip I, LLC and PPL Colstrip II, LLC tendered for filing notification of change in status, pursuant to the Order of the Federal Energy Regulatory Commission in Illinova Power Marketing, Inc., 88 FERC ¶ 61,189 (1999).

Copies of this filing have been served upon all persons listed on the official service list complied by the Secretary in this Docket.

Comment date: September 7, 2000, in accordance with Standard Paragraph E at the end of this notice.

16. PPL EnergyPlus, LLC

[Docket No. ER99-3606-003]

Take notice that on August 17, 2000, PPL EnergyPlus, LLC, tendered for filing notification of change in status, pursuant to the Order of the Federal Energy Regulatory Commission in PPL EnergyPlus Company, 85 FERC ¶ 61,377 (1998), reh'g pending.

Copies of this filing have been served upon all persons listed on the official service list complied by the Secretary in this Docket.

Comment date: September 7, 2000, in accordance with Standard Paragraph E at the end of this notice.

17. PPL Great Works, LLC

[Docket No. ER99-4503-001]

Take notice that on August 17, 2000, PPL Great Works, LLC tendered for filing notification of change in status, pursuant to the Order of the Federal Energy Regulatory Commission in Middletown Power, LLC, 89 FERC ¶ 61,151 (1999).

Copies of this filing have been served upon all persons listed on the official service list complied by the Secretary in this Docket.

Comment date: September 7, 2000, in accordance with Standard Paragraph E at the end of this notice.

18. AES Placerita, Inc.

[Docket No. ER00-33-001]

Take notice that on August 18, 2000, AES Placerita, Inc., 20885 Placerita Canyon Road, Newhall, CA 91321 (AESPL), tendered for filing with the Federal Energy Regulatory Commission (Commission) a revised tariff sheet and statement of policy and code of conduct in compliance with the Commission's prior order in this docket.

Comment date: September 8, 2000, in accordance with Standard Paragraph E at the end of this notice.

19. PPL Electric Utilities Corporation

[Docket No. ER00-1712-002]

Take notice that on August 17, 2000, PPL Electric Utilities Corporation tendered for filing notification of change in status, pursuant to the Order of the Commission in Pennsylvania Power & Light Company, 80 FERC ¶ 61,053 (1997), and a request for waiver of certain of the filing requirements of the Federal Energy Regulatory Commission.

Copies of this filing have been served upon all persons listed on the official service list complied by the Secretary in this Docket.

Comment date: September 7, 2000, in accordance with Standard Paragraph E at the end of this notice.

20. El Dorado Energy, LLC

[Docket No. ER00-2712-001]

Take notice that on August 18, 2000, El Dorado Energy, LLC (El Dorado), tendered for filing two service agreements and a redesignated FERC Electric Tariff, Original Volume No. 1 designated in accordance with Order No. 614 and in compliance with the letter order issued in this docket on August 3, 2000. El Dorado's FERC Electric Tariff supercedes El Dorado's Rate Schedule No. 1.

Comment date: September 8, 2000, in accordance with Standard Paragraph E at the end of this notice.

21. The New Power Company

[Docket No. ER00-3102-001]

Take notice that on August 18, 2000, The New Power Company (TNPC), tendered for filing rate schedule designations for its revised FERC Rate Schedule No. 1 and accompanying Code of Conduct in compliance with the Commission's August 3, 2000, Order in the above-referenced docket.

Comment date: September 8, 2000, in accordance with Standard Paragraph E at the end of this notice.

22. Madison Gas and Electric Company

[Docket No. ER00-3432-000]

Take notice that on August 17, 2000, Madison Gas and Electric Company (MGE), tendered for filing a service agreement under MGE's Market-Based Power Sales Tariff with AES/CILCO.

MGE requests the agreement be effective on the date it was filed with the FERC.

Comment date: September 7, 2000, in accordance with Standard Paragraph E at the end of this notice.

23. Alliant Energy Corporate Services, Inc.

[Docket No. ER00-3437-000]

Take notice that on August 17, 2000, Alliant Energy Corporate Services, Inc., tendered for filing executed Network Service and Network Operating Agreements, establishing Central Minnesota Municipal Power Agency as a Network Transmission Customer under the terms of the Alliant Energy Corporate Services, Inc., transmission tariff.

Alliant Energy Corporate Services, Inc., requests an effective date of August 1, 2000 and accordingly, seeks waiver of the Commission's notice requirements.

A copy of this filing has been served upon the Illinois Commerce Commission, the Minnesota Public Utilities Commission, the Iowa Department of Commerce, and the Public Service Commission of Wisconsin.

Comment date: September 7, 2000, in accordance with Standard Paragraph E at the end of this notice.

24. New Century Services, Inc.

[Docket No. ER00-3438-000]

Take notice that on August 18, 2000, New Century Services, Inc. (NCS), on behalf of Public Service Company of Colorado (Public Service), tendered for filing the Master Power Purchase and Sale Agreement between Public Service and Sandia Resources Corporation which is an umbrella service agreement under Public Service's Rate Schedule for Market-Based Power Sales (Public Service FERC Electric Tariff, Original Volume No. 6).

NCS requests that this agreement become effective on August 1, 2000.

Comment date: September 8, 2000, in accordance with Standard Paragraph E at the end of this notice.

25. Commonwealth Edison Company

[Docket No. ER00-3439-000]

Take notice that on August 18, 2000, Commonwealth Edison Company (ComEd), tendered for filing two Firm Transmission Service Agreements (Agreements) supplemented by Network Upgrade Agreements with Wisconsin Electric Power Company (WEP), and one firm Agreement with Alliant Energy Corporate Services, Inc. (Alliant) under the terms of ComEd's Open Access Transmission Tariff (OATT).

ComEd requests an effective date of October 1, 2000 for the Agreements, and accordingly, seeks waiver of the Commission's notice requirements.

Comment date: September 8, 2000, in accordance with Standard Paragraph E at the end of this notice.

26. Maine Electric Power Company

[Docket No. ER00-3440-000]

Take notice that on August 18, 2000, Maine Electric Power Company (MEPCO), tendered for filing a service agreement for Short-Term Firm Point-to-Point service entered into with The Legacy Energy Group, LLC. Service will be provided pursuant to MEPCO's Open Access Transmission Tariff, designated rate schedule MEPCO—FERC Electric Tariff, Original Volume No. 1, as supplemented.

Comment date: September 8, 2000, in accordance with Standard Paragraph E at the end of this notice.

27. Central Power and Light Company

[Docket No. ER00-3441-000]

Take notice that on August 18, 2000, Central Power and Light Company (CPL), tendered for filing an Interconnection Agreement between CPL and Corpus Christi Cogeneration LP (Corpus Christi).

CPL requests an effective date for the Interconnection Agreement of sixty (60) days after the date of the filing.

CPL states that a copy of the filing was served on Corpus Christi and the Public Utility Commission of Texas.

Comment date: September 8, 2000, in accordance with Standard Paragraph E at the end of this notice.

28. Metropolitan Edison Company Pennsylvania Electric Company

[Docket No. ER00-3442-000]

Take notice that on August 18, 2000, Metropolitan Edison Company and Pennsylvania Electric Company (doing business and hereinafter referred to as GPU Energy) tendered for filing a letter agreement between GPU Energy and Conectiv Energy Supply, Inc., (Conectiv). Under the agreement, Conectiv has accepted certain operational and financial responsibilities, including those set forth in the GPU Energy's procedure manuals, in connection with Conectiv becoming a Load Serving Entity for the Pennsylvania Boroughs of Berlin, Girard, Hooversville, Royalton and Smethport.

Copies of the filing were served upon Conectiv, PJM and regulators in the Commonwealth of Pennsylvania.

Comment date: September 8, 2000, in accordance with Standard Paragraph E at the end of this notice.

29. Maine Electric Power Company

[Docket No. ER00-3443-000]

Take notice that on August 18, 2000, Maine Electric Power Company (MEPCO), tendered for filing a service agreement for Umbrella Non-Firm Point-to-Point service entered into with The Legacy Energy Group, LLC. Service will be provided pursuant to MEPCO's Open Access Transmission Tariff, designated rate schedule MEPCO—FERC Electric Tariff, Original Volume No. 1, as supplemented.

Comment date: September 8, 2000, in accordance with Standard Paragraph E at the end of this notice.

30. Enova Energy, Inc.

[Docket No. ER00-3444-000]

Take notice that on August 14, 2000, Sempra Energy Solutions, tendered for filing notice that on August 4, 2000, it adopts, ratifies, and makes its own, in every respect all applicable rate schedules, and supplements to Enova Energy, Inc's FERC Electric Rate Schedule No. 1, filed with the Federal Energy Regulatory Commission.

Comment date: September 4, 2000, in accordance with Standard Paragraph E at the end of this notice.

31. Western Resources, Inc.

[Docket No. ER00-3445-000]

Take notice that on August 18, 2000, Western Resources, Inc. (WR), tendered for filing the First Amendment to the Electric Service Agreement between WR and the City of Toronto, Kansas (City). WR states that the filing extends this Electric Service Agreement until March 14, 2000.

WR requests an effective date of April 1, 2000 for this rate schedule change.

Copies of the filing have been served upon the City and the Kansas Corporation Commission.

Comment date: September 8, 2000, in accordance with Standard Paragraph E at the end of this notice.

32. DePere Energy Marketing, Inc.

[Docket No. ER00-3446-000]

Take notice that on August 17, 2000, DePere Energy Marketing, Inc. (DePere), tendered for filing notice of cancellation of its Rate Schedule FERC No. 1, with a proposed effective date of June 30, 2000. DePere is no longer engaged in the power marketing business, will not conduct power marketing activities in the future, and has no outstanding power sales contracts; accordingly, no purchasers will be affected by this Notice.

Comment date: September 7, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-22020 Filed 8-28-00; 8:45 am]

BILLING CODE 6717-01-P